DEPARTMENT OF HOMELAND SECURITY

Federal Emergency Management Agency

44 CFR Part 67

[Docket ID FEMA-2010-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Roy E. Wright, Deputy Director, Risk Analysis Division, Federal Insurance and Mitigation Administration, Federal Emergency Management Agency, 500 C Street, SW., Washington, DC 20472, (202) 646-3461, or (e-mail) roy.e.wright@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Pickens County, Alabama, and Incorporated Areas
Docket No.: FEMA-B-1071
Big Ditch | Approximately 1,317 feet upstream of the confluence with Tributary 1 | +163 | Unincorporated Areas of Pickens County.
| Approximately 1.1 mile upstream of the confluence with Tributary 1 | +174
Little Bear Creek | Approximately 0.8 mile downstream of U.S. Route 82 | +235 | Unincorporated Areas of Pickens County.
| Approximately 1 mile upstream of 1st Avenue | +262
Long Creek | Approximately 845 feet upstream of 1st Avenue | +254 | Unincorporated Areas of Pickens County.
| Approximately 1,123 feet upstream of 1st Avenue | +255
Lubbub Creek | Approximately 0.9 mile downstream of U.S. Route 82 | +220 | Unincorporated Areas of Pickens County.
| Approximately 1,292 feet upstream of U.S. Route 82 | +227
Stream 2 | Approximately 1,375 feet downstream of the confluence with Stream 3 | +196 | Unincorporated Areas of Pickens County.
| Approximately 1,300 feet downstream of the confluence with Stream 3 | +196
Tombigbee River | Approximately 1.4 mile downstream of the confluence with Beaver Creek | +144 | City of Memphis.
| Approximately 0.9 mile downstream of the confluence with Beaver Creek | +144
* National Geodetic Vertical Datum.
+ North American Vertical Datum.
# Depth in feet above ground.
‸ Mean Sea Level, rounded to the nearest 0.1 meter.
ADDRESSES
City of Memphis
Maps are available for inspection at 128 Memphis Circle, Aliceville, AL 35442.
Unincorporated Areas of Pickens County
Maps are available for inspection at the Pickens County Judicial Center, 20 Phoenix Avenue, Room 102, Carrollton, AL 35447.
Jefferson County, Illinois, and Incorporated Areas
Docket No.: FEMA-B-1066
Bell Street Ditch | The confluence with Casey Fork (approximately 2,438 feet downstream of State Route 142) | +436 | Unincorporated Areas of Jefferson County.
| Approximately at railroad (approximately 450 feet downstream of State Route 142) | +444
Botches Ditch | Just upstream of State Route 37 | +435 | Unincorporated Areas of Jefferson County.
| Approximately 200 feet downstream of 30th Street | +479
Brickyard Creek | Approximately 290 feet downstream of 10th Street | +465 | Unincorporated Areas of Jefferson County.
| Just downstream of 11th Street | +469
Casey Fork | Approximately 1,670 feet downstream of State Route 142 | +434 | Unincorporated Areas of Jefferson County.
| Approximately 2,735 feet upstream of Tolle Road | +455
Church Tributary | Approximately 165 feet downstream of State Route 37 | +466 | Unincorporated Areas of Jefferson County.
| Approximately 200 feet upstream of State Route 37 | +469
East Fork Botches Ditch | Approximately 350 feet downstream of South Fishers Lane | +475 | Unincorporated Areas of Jefferson County.
| Just downstream of South Fishers Lane | +475
Rend Lake | Approximately 12,500 feet west of the intersection of County Route 43 and East Franklin Road | +415 | City of Nason, Unincorporated Areas of Jefferson County, Village of Bonnie, Village of Ina.
| Approximately 2,400 feet west of the intersection of Bonnie Road and Cooley Lane | +415
West Tributary | Approximately 195 feet upstream of I-57/64 | +458 | Unincorporated Areas of Jefferson County.
| Just downstream of 42nd Street | +477
* National Geodetic Vertical Datum.
+ North American Vertical Datum.
# Depth in feet above ground.
‸ Mean Sea Level, rounded to the nearest 0.1 meter.
ADDRESSES
City of Nason
Maps are available for inspection at City Hall, 121 North 9th Street, Nason, IL 62866.
Unincorporated Areas of Jefferson County
Maps are available for inspection at the Jefferson County Courthouse, 100 South 10th Street, Mount Vernon, IL 62864.
Village of Bonnie
Maps are available for inspection at the Village Hall, 270 South Railroad Avenue, Bonnie, IL 62816.
Village of Ina
Maps are available for inspection at the Village Hall, 306 South Elm Street, Ina, IL 62846.
Jo Daviess County, Illinois, and Incorporated Areas
Docket Nos.: FEMA-B-1053 and FEMA-B-1069
Apple River | Approximately 2.2 miles upstream of Crazy Hollow Road | +616 | Unincorporated Areas of Jo Daviess County, Village of Hanover.
| Approximately 0.78 mile upstream of North Washington Street | +622
Mississippi River | Approximately 559.7 miles upstream of the confluence with the Ohio River (approximately 0.6 mile upstream of West Diggen Hill Road extended) | +604 | Unincorporated Areas of Jo Daviess County.
| Approximately 572.3 miles upstream of the confluence with the Ohio River (approximately 1.5 mile upstream of Sand Ridge Road extended) | +608
Mississippi River Backwater | Along the Apple River, at the Jo Daviess/Carroll county boundary (approximately 0.7 mile upstream of Savanna Army Depot Road in Carroll County) | +599 | City of East Dubuque, Unincorporated Areas of Jo Daviess County.
| Along the Apple River, approximately 1.45 mile upstream of the Jo Daviess/Carroll county boundary (approximately 200 feet upstream of West Whitton Road) | +599
| Along the Galena River, at its confluence with the Mississippi River (approximately 0.1 mile downstream of Railroad Bridge) | +605
| Along the Galena River, approximately 0.86 mile upstream of the confluence with the Mississippi River (approximately 0.76 mile upstream of Railroad Bridge) | +605
| Approximately at the 3rd Street Channel, upstream side of the railroad | +610
| Approximately 200 feet northwest of 1st Street | +610
* National Geodetic Vertical Datum.
+ North American Vertical Datum.
# Depth in feet above ground.
‸ Mean Sea Level, rounded to the nearest 0.1 meter.
ADDRESSES
City of East Dubuque
Maps are available for inspection at City Hall, 303 Sinsinawa Avenue, East Dubuque, IL 61025.
Unincorporated Areas of Jo Daviess County
Maps are available for inspection at the Jo Daviess County Courthouse, 330 North Bench Street, Galena, IL 61036.
Village of Hanover
Maps are available for inspection at the Village Hall, 207 Jefferson Street, Hanover, IL 61041.
Woodford County, Illinois, and Incorporated Areas
Docket No.: FEMA-B-1060
Illinois River | Approximately 172 miles upstream of the confluence with the Mississippi River (approximately 1,500 feet upstream of Bruce Rich Lane extended) | +460 | Village of Bay View Gardens.
| Approximately 173.4 miles upstream of the confluence with the Mississippi River (approximately at Leisure Lane extended) | +460
Ten Mile Creek | Approximately 3 miles upstream of the confluence with the Illinois River (approximately at Ten Mile Creek Road extended) | +507 | Unincorporated Areas of Woodford County.
| Approximately 3.2 miles upstream of the confluence with the Illinois River (approximately 1,075 feet upstream of Ten Mile Creek Road extended) | +512
* National Geodetic Vertical Datum.
+ North American Vertical Datum.
# Depth in feet above ground.
‸ Mean Sea Level, rounded to the nearest 0.1 meter.
ADDRESSES
Unincorporated Areas of Woodford County
Maps are available for inspection at the Woodford County Courthouse, 115 North Main Street, Eureka, IL 61530.
Village of Bay View Gardens
Maps are available for inspection at the Bay View Gardens Village Hall, 300 Garber Lane, Room 8, East Peoria, IL 61611.
Alcorn County, Mississippi, and Incorporated Areas
Docket No.: FEMA-B-1072
Elam Creek | Approximately 123 feet downstream of South Harper Road | +421 | City of Corinth.
| Just downstream of County Road 701 | +483
* National Geodetic Vertical Datum.
+ North American Vertical Datum.
# Depth in feet above ground.
‸ Mean Sea Level, rounded to the nearest 0.1 meter.
ADDRESSES
City of Corinth
Maps are available for inspection at City Hall, 300 Childs Street, Corinth, MS 38834.
Winston County, Mississippi, and Incorporated Areas
Docket No.: FEMA-B-1068
Hughes Creek | Approximately 1,193 feet upstream of the confluence with Stream 2 | +487 | Unincorporated Areas of Winston County.
| Approximately 1,534 feet upstream of the confluence with Stream 2 | +488
Stream 1 | Approximately 96 feet downstream of Files Road | +497 | Unincorporated Areas of Winston County.
| Approximately 222 feet upstream of Files Road | +498
Stream 2 | Approximately 1,079 feet upstream of the confluence with Hughes Creek | +484 | Unincorporated Areas of Winston County.
| Approximately 1,380 feet upstream of the confluence with Hughes Creek | +485
* National Geodetic Vertical Datum.
+ North American Vertical Datum.
# Depth in feet above ground.
‸ Mean Sea Level, rounded to the nearest 0.1 meter.
ADDRESSES
Unincorporated Areas of Winston County
Maps are available for inspection at the Winston County Courthouse, 115 West Main Street, Louisville, MS 39339.
Yalobusha County, Mississippi, and Incorporated Areas
Docket No.: FEMA-B-1072
Enid Lake | Entire shoreline within Yalobusha County | +274 | City of Water Valley, Unincorporated Areas of Yalobusha County.
Grenada Lake | Entire shoreline within Yalobusha County | +237 | Town of Coffeeville, Unincorporated Areas of Yalobusha County.
* National Geodetic Vertical Datum.
+ North American Vertical Datum.
# Depth in feet above ground.
‸ Mean Sea Level, rounded to the nearest 0.1 meter.
ADDRESSES
City of Water Valley
Maps are available for inspection at City Hall, 101 Blackmur Drive, Water Valley, MS 38965.
Town of Coffeeville
Maps are available for inspection at the Town Hall, 14615 Depot Street, Coffeeville, MS 38922.
Unincorporated Areas of Yalobusha County
Maps are available for inspection at the Yalobusha County Courthouse, 201 Blackmur Drive, Water Valley, MS 38965.
Niagara County, New York (All Jurisdictions)
Docket No.: FEMA-B-1026
Bergholtz Creek | At the confluence with Cayuga Creek | +570 | City of Niagara Falls, Town of Cambria, Town of Wheatfield.
| Approximately 1.4 miles upstream of State Route 425 (Shawnee Road) | +631
Bull Creek | At the confluence with Tonawanda Creek backwater area | +575 | City of North Tonawanda, Town of Cambria, Town of Pendleton, Town of Wheatfield.
| Approximately 240 feet upstream of Lockport Road | +604
Cayuga Creek | Approximately 0.3 mile upstream of Pine Avenue/U.S. Route 62 | +571 | Town of Niagara, Town of Wheatfield.
| Approximately 70 feet downstream of the first airport overpass | +584
Cayuga Creek West Tributary | At the confluence with Cayuga Creek | +579 | Town of Niagara.
| Approximately 240 feet upstream of Lockport Road | +621
Cayuga Creek West Tributary Diversion | Just upstream of Porter Road | +582 | Town of Niagara.
| At the confluence with Cayuga Creek West Tributary | +582
Donner Creek | Approximately 326 feet downstream of Beatle Road | +617 | City of Lockport, Town of Lockport.
| Approximately 975 feet upstream of Lincoln Avenue | +631
Eighteenmile Creek | Just downstream of Stone Road | +364 | City of Lockport.
| Approximately 0.41 mile upstream of Stone Road | +364
Eighteenmile Creek East | Approximately 1,300 feet downstream of Day Road | +374 | Town of Newfane.
| Approximately 540 feet upstream of Day Road | +374
Gulf Branch | At the confluence with Eighteenmile Creek | +364 | City of Lockport.
| Approximately 800 feet upstream of the confluence with Eighteenmile Creek | +364
Johnson Creek 2 | Approximately 665 feet downstream of Sherman Road | +476 | Town of Hartland, Town of Royalton.
| Approximately 0.19 mile upstream of Telegraph Road | +541
Mud Creek | At the confluence with Tonawanda Creek | +583 | Town of Lockport, Town of Pendleton.
| Approximately 0.63 mile downstream of Minnick Road | +583
Sawyer Creek (East) | At the confluence with Bull Creek | +575 | City of North Tonawanda, Town of Wheatfield.
| At the centerline of Ward Road | +578
Sawyer Creek (West) | At the confluence with Bergholtz Creek | +573 | Town of Wheatfield.
| At the centerline of Ward Road | +579
Tonawanda Creek | Approximately 0.9 mile upstream of Twin Cities Memorial Highway | +572 | City of North Tonawanda, Town of Lockport, Town of Pendleton, Town of Royalton, Town of Wheatfield.
| Approximately 2.8 miles upstream of Rapids Road | +593
Town Ditch Number 2 | At the confluence with Tonawanda Creek | +578 | Town of Pendleton.
| Approximately 0.8 mile upstream of Campbell Boulevard | +578
Twelvemile Creek | Approximately 2.0 miles upstream of Fitch Road | +300 | Town of Porter, Town of Wilson.
| Approximately 870 feet downstream of Ransomville Road | +301
* National Geodetic Vertical Datum.
+ North American Vertical Datum.
# Depth in feet above ground.
‸ Mean Sea Level, rounded to the nearest 0.1 meter.
ADDRESSES
City of Lockport
Maps are available for inspection at the Lockport Municipal Building, 1 Locks Plaza, Lockport, NY 14094.
City of Niagara Falls
Maps are available for inspection at City Hall, 745 Main Street, Niagara Falls, NY 14301.
City of North Tonawanda
Maps are available for inspection at City Hall, 216 Payne Avenue, North Tonawanda, NY 14120.
Town of Cambria
Maps are available for inspection at the Cambria Town Hall, 4160 Upper Mountain Road, Sanborn, NY 14132.
Town of Hartland
Maps are available for inspection at the Hartland Town Hall, 8942 Ridge Road, Gasport, NY 14067.
Town of Lockport
Maps are available for inspection at the Lockport Town Hall, 6560 Dysinger Road, Lockport, NY 14094.
Town of Newfane
Maps are available for inspection at the Town Hall, 2896 Transit Road, Newfane, NY 14108.
Town of Niagara
Maps are available for inspection at the Niagara Town Hall, 7105 Lockport Road, Niagara Falls, NY 14305.
Town of Pendleton
Maps are available for inspection at the Pendleton Town Hall, 6570 Campbell Boulevard, Lockport, NY 14094.
Town of Porter
Maps are available for inspection at the Porter Town Hall, 3265 Creek Road, Youngstown, NY 14174.
Town of Royalton
Maps are available for inspection at the Royalton Town Hall, 5316 Royalton Center Road, Middleport, NY 14105.
Town of Wheatfield
Maps are available for inspection at the Wheatfield Town Hall, 2800 Church Road, North Tonawanda, NY 14120.
Town of Wilson
Maps are available for inspection at the Town Hall, 375 Lake Street, Wilson, NY 14172.
Clatsop County, Oregon, and Incorporated Areas
Docket Nos.: FEMA-B-7748 and FEMA-B-7760
Beerman Creek | Approximately at U.S. Route 101 | +21 | Unincorporated Areas of Clatsop County.
| Approximately 0.95 mile upstream of Beerman Creek Lane | +119
Columbia River | Approximately 600 feet upstream of Southeast Anchor Road (west of Burlington Northern Railroad) | +12 | City of Warrenton, Unincorporated Areas of Clatsop County.
| Approximately at Alternate U.S. Route 101 (south of Astoria Regional Airport) | +12
Lewis and Clark River | Approximately at Alternate U.S. Route 101 (south of Astoria Regional Airport) | +12 | Unincorporated Areas of Clatsop County.
| Approximately at the confluence with Heckard Creek (east of Lewis and Clark River) | +13
Neawanna Creek | Approximately 50 feet downstream of 12th Avenue | +14 | City of Seaside, Unincorporated Areas of Clatsop County.
| Approximately 0.7 mile upstream of Avenue S | +19
Necanicum River | Approximately 450 feet downstream of 12th Avenue | +14 | City of Seaside, Unincorporated Areas of Clatsop County.
| Approximately at the Howard Johnson Bridge | +39
Necanicum River Overflow | Approximately 0.24 mile upstream of the confluence with the Necanicum River | +32 | City of Seaside, Unincorporated Areas of Clatsop County.
| Approximately 0.7 mile upstream of the confluence with the Necanicum River | +37
Upper Neawanna Creek | Approximately 260 feet downstream of Wahanna Road | +16 | City of Seaside, Unincorporated Areas of Clatsop County.
| Approximately 840 feet upstream of Wahanna Road | +31
Youngs River | Approximately 500 feet south of the confluence with Battle Creek Slough | +12 | Unincorporated Areas of Clatsop County.
| Approximately at the intersection of Wireless Road and U.S. Route 101 | +12
* National Geodetic Vertical Datum.
+ North American Vertical Datum.
# Depth in feet above ground.
‸ Mean Sea Level, rounded to the nearest 0.1 meter.
ADDRESSES
City of Seaside
Maps are available for inspection at 989 Broadway Street, Seaside, OR 97138.
City of Warrenton
Maps are available for inspection at 225 South Main Street, Warrenton, OR 97146.
Unincorporated Areas of Clatsop County
Maps are available for inspection at 800 Exchange Street, Astoria, OR 97103.
Cheatham County, Tennessee, and Incorporated Areas
Docket No.: FEMA-B-1061
Big Bartons Creek | Approximately 1.1 mile upstream of the confluence with the Cumberland River | +397 | Unincorporated Areas of Cheatham County.
| Approximately 3.8 miles upstream of the confluence with the Cumberland River | +397
* National Geodetic Vertical Datum.
+ North American Vertical Datum.
# Depth in feet above ground.
‸ Mean Sea Level, rounded to the nearest 0.1 meter.
ADDRESSES
Unincorporated Areas of Cheatham County
Maps are available for inspection at the Cheatham County Building Commissioner's Office, 210 South Main Street, Ashland City, TN 37015.
Meigs County, Tennessee, and Incorporated Areas
Docket No.: FEMA-B-1064
Dake Branch | At the confluence with Watts Creek | +696 | Unincorporated Areas of Meigs County.
| Approximately 0.8 mile upstream of the confluence with Watts Creek | +696
Decatur Branch | At the confluence with Decatur Creek | +732 | Town of Decatur.
| Approximately 0.5 mile upstream of Church Lane | +745
Decatur Creek | Approximately 0.5 miles downstream of State Route 58 | +730 | Town of Decatur.
| Approximately 605 feet upstream of State Route 58 | +742
Watts Creek | At the confluence with the Tennessee River | +696 | Unincorporated Areas of Meigs County.
| Approximately 1.9 mile upstream of the confluence with the Tennessee River | +696
* National Geodetic Vertical Datum.
+ North American Vertical Datum.
# Depth in feet above ground.
‸ Mean Sea Level, rounded to the nearest 0.1 meter.
ADDRESSES
Unincorporated Areas of Meigs County
Maps are available for inspection at the Meigs County Courthouse, 17214 State Highway 58 North, Decatur, TN 37322.
Town of Decatur
Maps are available for inspection at City Hall, 17454 State Highway 58 North, Decatur, TN 37322.
Fairfax County, Virginia, and Incorporated Areas
Docket No.: FEMA-B-1066
Cameron Run | Approximately 1,975 feet upstream of the confluence with the Potomac River | *11 | Unincorporated Areas of Fairfax County.
| Approximately 1.0 mile upstream of the confluence with Pike Branch | *30
Dogue Creek | At the confluence with the Potomac River | *10 | Unincorporated Areas of Fairfax County.
| Approximately 1.5 mile upstream of the confluence with the Potomac River at Mount Vernon Road | *10
Potomac River | Approximately 1,140 feet east of Carriage House Court | *10 | Unincorporated Areas of Fairfax County.
| Approximately 1,250 feet south of the intersection of River Drive and Oak Grove Street | *10
* National Geodetic Vertical Datum.
+ North American Vertical Datum.
# Depth in feet above ground.
‸ Mean Sea Level, rounded to the nearest 0.1 meter.
ADDRESSES
Unincorporated Areas of Fairfax County
Maps are available for inspection at the Fairfax County Government Center, 12055 Government Center Parkway, Suite 659, Fairfax, VA 22035.

(Catalog of Federal Domestic Assistance No. 97.022, “Flood Insurance.”)

Dated: September 1, 2010.
Sandra K. Knight,
Deputy Federal Insurance and Mitigation Administrator, Mitigation, Department of Homeland Security, Federal Emergency Management Agency.

[FR Doc. 2010-22764 Filed 9-10-10; 8:45 am]

BILLING CODE 9111-23-P